DEPARTMENT OF HEALTH AND HUMAN SERVICES

Agency for Healthcare Research and Quality (AHRQ); Statement of Organization, Functions, and Delegations of Authority

Part E, Chapter E (Agency for Health Care Policy and Research), of the Statement of Organization, Functions, and Delegations of Authority for the Department of Health and Human Services (61 FR 15955-58, April 10, 1996, most recently amended at 64 FR 11012-15 on march 8, 1999) is further amended to reflect organizational changes necessitated by the enactment of the Healthcare Research and Quality Act of 1999, Public Law 106-129. The Act retitled the Agency for Health care Policy and Research (AHCPR) as the Agency for Healthcare Research and Quality (AHRQ); and changed the title of the Administrator to Director. The changes are as follows:

1. All references to the Agency for Health Care Policy and Research (AHCPR) are hereby changed to the Agency for Healthcare Research and Quality (AHRQ); and all references to AHCPR are changed to AHRQ.

2. All references to the AHCPR “Administrator” are changed to the AHRQ “Director.”

3. Under Section E-20, Functions, in the statement for the Center for Practice and Technology Assessment (EM), delete item (6) in its entirety.

These changes are effective upon date of signature.

Dated: March 21, 2000.
Donna E. Shalala,
Secretary.

[FR Doc. 00-7521 Filed 3-27-00; 8:45 am]

BILLING CODE 4160-90-M